DEPARTMENT OF COMMERCE

National Oceanic and Atmospheric Administration

50 CFR Part 679

[Docket No. 000211040-0040-01; I.D. 022800C]

Fisheries of the Exclusive Economic Zone Off Alaska; Pollock by Vessels Catching Pollock for Processing by the Mothership Component in the Bering Sea Subarea of the Bering Sea and Aleutian Islands Management Area

AGENCY: National Marine Fisheries Service (NMFS), National Oceanic and Atmospheric Administration (NOAA), Commerce.

ACTION: Closure.

SUMMARY: NMFS is prohibiting directed fishing for pollock by vessels catching pollock for processing by the mothership component in the Steller sea lion conservation area (SCA) of the Bering Sea and Aleutian Islands management area (BSAI). This action is necessary because the A season limit of pollock total allowable catch specified to the mothership component for harvest within the SCA has been reached.

DATES: Effective 1200 hrs, Alaska local time (A.l.t.), February 28, 2000, until 1200 hrs, A.l.t., April 1, 2000.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(D)(2)(iii), and the final 2000 TAC amounts for pollock in the Bering Sea Subarea (65 FR 8282, February 18, 2000) the A season limit of pollock total allowable catch specified to the mothership component for harvest within the Steller sea lion conservation area (SCA) is 14,607 metric tons.

In accordance with § 679.22(a)(11)(iv)(A)&(C) the Administrator, Alaska Region, NMFS, has determined that the A season limit of pollock total allowable catch specified to the mothership component for harvest within the SCA has been reached.

Consequently, in accordance with § 679.22(a)(11)(iv)(D) NMFS is prohibiting directed fishing for pollock by vessels catching pollock for processing by the mothership component within the SCA in the Bering Sea subarea of the BSAI.

Maximum retainable bycatch amounts may be found in the regulations at § 679.20(e) and (f).

Classification

This action responds to the best available information recently obtained from the fishery. It must be implemented immediately in order to prevent exceeding the A season limit of pollock total allowable catch specified to the mothership component for harvest within the SCA. A delay in the effective date is impracticable and contrary to the public interest. Further delay would only result in jeopardizing the recovery of the endangered Steller sea lion. NMFS finds for good cause that the implementation of this action can not be delayed for 30 days. Accordingly, under 5 U.S.C. 553(d), a delay in the effective date is hereby waived.

This action is required by § 679.22 and is exempt from review under E.O. 12866.

Authority: 16 U.S.C. 1801 et seq.

Dated: February 28, 2000.
Bruce Morehead,
Acting Director, Office of Sustainable Fisheries, National Marine Fisheries Service.

[FR Doc. 00-5121 Filed 2-29-00; 9:56 am]

BILLING CODE 3510-22-F